NUCLEAR REGULATORY COMMISSION

[Docket No. 50-255-LT; ASLBP No. 07-853-01-LT-BD01]

Consumers Energy Company, Nuclear Management Company, LLC, Entergy Nuclear Palisades, LLC, and Entergy Nuclear Operations, INC.; Designation of Presiding Officer

Pursuant to delegation by the Commission, see 37 FR 28,710 (Dec. 29, 1972), and the Commission's regulations, see 10 CFR 2.313(a)(2), 2.318, 2.1300, and 2.1319(a), notice is hereby given that a member of the Atomic Safety and Licensing Board Panel is being designated as Presiding Officer in the following proceeding in compliance with the Commission's directions in its Memorandum and Order dated April 26, 2007 (CLI-07-18):

Consumers Energy Company, Nuclear Management Company, LLC, Entergy Nuclear Palisades, LLC, and Entergy Nuclear Operations, Inc. (Palisades Nuclear Power Plant)

This proceeding, which will be conducted pursuant to 10 CFR Part 2 Subpart M of the Commission's Regulations, “Procedures for Hearings on License Transfer Applications,” concerns a Notice of Consideration of Approval of Transfer of Facility Operating License and Conforming Amendment and Opportunity for a Hearing published in the Federal Register at 71 FR 66,805 (Nov. 16, 2006). The Commission is considering issuing an order approving the transfer of Facility Operating License No. DPR-20 for Palisades Nuclear Plant currently held by Consumers Energy Company and Nuclear Management Company, LLC to Entergy Nuclear Palisades, LLC and Entergy Nuclear Operations, Inc. As relevant here, in CLI-07-18 (slip op. at 4), the Commission determined that petitioners Van Buren County and Covert Township have standing in this proceeding. The Commission deferred ruling on the admissibility of the contentions proffered by the County and the Township, but it granted their request for access to proprietary information redacted by the applicants from the license transfer application (id. at 14). The Commission directed the applicants to provide the County and Township access to the unredacted version of the application pursuant to a confidentiality agreement (id. at 16-17). Unless and until directed otherwise by the Commission, the Presiding Officer's responsibilities shall be limited to resolving any disputes regarding the County's and Township's access to proprietary information in the application (id. at 17, 18).

The Presiding Officer is: Administrative Judge Michael C. Farrar, Atomic Safety and Licensing Board Panel, U.S. Nuclear Regulatory Commission, Washington, DC 20555-0001.

All correspondence, documents, and other materials relating to disputes regarding the County's and Township's access to proprietary information in the application shall be filed with the Presiding Officer in accordance with 10 CFR 2.302.

Issued at Rockville, Maryland, this 30th day of April 2007.
E. Roy Hawkens,
Chief Administrative Judge, Atomic Safety and Licensing Board Panel.

.

[FR Doc. E7-8549 Filed 5-3-07; 8:45 am]

BILLING CODE 7590-01-P